DEPARTMENT OF THE INTERIOR

National Park Service

[NPS-WASO-NAGPRA-NPS0038306; PPWOCRADN0-PCU00RP14.R50000]

Notice of Inventory Completion: Office of the State Archaeologist Bioarchaeology Program, University of Iowa, Iowa City, IA

AGENCY: National Park Service, Interior.

ACTION: Notice.

SUMMARY: In accordance with the Native American Graves Protection and Repatriation Act (NAGPRA), the Office of the State Archaeologist Bioarchaeology Program (OSA-BP) has completed an inventory of human remains and associated funerary objects and has determined that there is no lineal descendant and no Indian Tribe or Native Hawaiian organization with cultural affiliation.

DATES: Upon request, repatriation of the human remains and associated funerary objects in this notice may occur on or after August 19, 2024.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: This notice is published as part of the National Park Service's administrative responsibilities under NAGPRA. The determinations in this notice are the sole responsibility of the OSA-BP, and additional information on the determinations in this notice, including the results of consultation, can be found in its inventory or related records. The National Park Service is not responsible for the determinations in this notice.

Abstract of Information Available

At an unknown date, human remains representing a minimum of 14 individuals were removed from an unknown location or locations. Some of the human remains were originally kept in the collection of a private citizen, Richard Herrmann, in Dubuque, Dubuque County, IA. All of the human remains were at some point donated to the Ham House Museum, which is managed by the Dubuque County Historical Society in Dubuque, IA. The human remains were transferred to the OSA-BP in 1986. One juvenile, aged 6-10 years, two adolescents or young adults (approximately 15 to 20 years), five adult females (one young, two middle-aged, one older, and one of indeterminate age) and six adult males (three young, one middle-aged, one older, and one of indeterminate age) are represented (Burial Project 655). Scant archival information indicates that the Herrmann collection was primarily composed of Native American artifacts and human remains, but their original location in the U.S. is not given. There is also no documentation of whether artifacts are associated with the human remains. No associated funerary objects are present. No known hazardous substances were used to treat the human remains.

At an unknown date, human remains representing a minimum of one individual were removed from an unknown location. The human remains were kept in a privately owned store for over 60 years. The family believed the human remains may have come from Arkansas, Iowa, Missouri, New York, or Tennessee. In 1994, the human remains were transferred to the OSA-BP. A young adult of indeterminate sex is represented (Burial Project 771). No associated funerary objects are present. No known hazardous substances were used to treat the human remains.

At an unknown date, human remains representing a minimum of two individuals were removed from an unknown location. The human remains were part of the collection of Robert Breckenridge, a former professor of metallurgy at Iowa State University. At an unknown date, Dr. Breckenridge donated his collections to the Iowa State University Archaeological Laboratory (catalog # ISUAL 1-815). In 1994, the human remains were transferred to the OSA-BP. No indication of the individuals' original burial locations was given. A juvenile 4-10 years old and an adult of indeterminate age and sex are represented by the cranial remains (Burial Project 763). No associated funerary objects are present. No known hazardous substances were used to treat the human remains.

At an unknown date, human remains representing a minimum of five individuals were removed from an unknown location. The remains were housed at the Luther College Archaeological Laboratory in Decorah, Iowa. The catalog numbers for these remains were as follows: 2000.Human.1.1; 2000.Human.1.2; 2000.Human.1.3; 2000.Human.1.4; 2000.Human.1.5; 2000.Human.1.6; 2000.Human.1.7; 2000.Human.1.8; 102.00US00.1.1203.3; 102.00US00.1.1203.1; 102.00US00.1.1203.2; 102.00US00.1.1203.4. In 2001, these remains were transferred to the OSA-BP with no available indication of their original locations. Three middle-aged adults and two juveniles, aged 6.4 to 7.8 years old and 9 to 11 years old, are represented by the human remains (Burial Project 1471). No associated funerary objects are present. No known hazardous substances were used to treat the human remains.

At an unknown date, human remains representing a minimum of one individual were removed from an unknown location. The human remains were part of the collections in the Luther College Archaeology Laboratory and were associated with the catalog numbers 2001.00US00.88.1, 2001.00US00.88.3, and 2001.00US00.88.4. They were transferred to the OSA-BP in 2003 with no available information indicating their original location. An adult of indeterminate age and sex is represented by the fragmentary human remains (Burial Project 1681). No associated funerary objects are present. No known hazardous substances were used to treat the human remains.

At an unknown date, human remains representing a minimum of one individual were removed from an unknown location. The remains were purchased by a couple (now deceased) from Plymouth County, IA, during a trip “out west” in the 1970s. Around 1999, the remains were transferred to the Iowa Department of Criminal Investigation. In 2007, the remains were found in the Department of Criminal Investigation storeroom. The State Medical Examiner assigned the case number 07SME405 and transferred the remains to the OSA-BP. A middle-aged adult male is represented by the nearly complete cranium and mandible. Cranial morphology suggests the individual was Native American (Burial Project 2187). No associated funerary objects are present. No known hazardous substances were used to treat the human remains.

At an unknown date, human remains representing a minimum of one individual were removed from an unknown location. The human remains were part of the collections at the College of Dentistry at the University of Iowa and had no associated information indicating their original location. In 2014, the remains were transferred to the OSA-BP. A middle-aged to old adult of indeterminate sex is represented by the incomplete cranial and dental remains. Osteological evidence suggests the individual was Native American (Burial Project 2984). No associated funerary objects are present. No known hazardous substances were used to treat the human remains.

At an unknown date, human remains representing a minimum of eight individuals were removed from an unknown location or locations. The remains were part of the materials collected by anthropologist Amy Harvey. She began her collections at the University of Wisconsin-Madison in the early 1960s, and continued to acquire materials throughout her career at Stephens College in Columbia, Missouri. The human remains described in this notice are not accompanied by any kind of provenience information, and were transferred to the OSA-BP in 2010 and 2013. Five adults and three juveniles are represented by the remains. These individuals include two young adults and three middle-aged to old adults. Of the three juveniles, one is fetal, one newborn to six months, and one is a young child (Burial Project 2930). No associated funerary objects are present. No known hazardous substances were used to treat the human remains.

At an unknown date, human remains representing a minimum of two individuals were removed from an unknown location or locations. The human remains were part of the collections at the Sioux City Public Museum in Sioux City, IA (accession # P.X.3B). Accession records for the human remains are dated January 9, 1965, but no provenience information is given. The human remains were transferred to the OSA-BP in 1994. A middle-aged male and a middle-aged to older female are represented. Osteological evidence suggests the individuals are of Native American ancestry (Burial Project 737). No associated funerary objects are present. No known hazardous substances were used to treat the human remains.

At an unknown date, human remains representing a minimum of one individual were removed from an unknown location. A partial human cranium was discovered in a private residence in 2014 with no associated provenience information, and was removed by Audubon County Sheriff's officers. The human remains were transferred to the Iowa State Medical Examiner's Office (Case number 14SME341). In June 2014, the human remains were determined likely ancient and transferred to the OSA-BP. A young adult, possibly male, is represented by the remains. Osteological evidence indicates Native American ancestry (Burial Project 3032). No associated funerary objects are present. No known hazardous substances were used to treat the human remains.

At an unknown date, human remains representing a minimum of five individuals were removed from an unknown location. The human remains were found in the basement of a residence in Dubuque, Dubuque County, IA with no associated provenience information. The homeowner gave the human remains to a local funeral director, who transferred them to the Dubuque Police Department. The Dubuque Police Department sent the human remains to the State Medical Examiner's Office, which transferred them to the OSA-BP in March 2013. Two children, both aged 6.5 to 9.5 years, and three adults (two males and one indeterminate) are represented by the human remains. Osteological evidence indicates Native American ancestry (Burial Project 2871). No associated funerary objects are present. No known hazardous substances were used to treat the human remains.

At an unknown date, human remains representing a minimum of one individual were removed from an unknown location. The remains were used as a part of the Luther College teaching collection until they were transferred to the OSA-BP in December 2015. A middle-aged to older adult female is represented by the cranial remains. The human remains have been identified as Native American based on cranial metrics (Burial Project 3165). No associated funerary objects are present. No known hazardous substances were used to treat the human remains.

At an unknown date, human remains representing a minimum of four individuals were removed from an unknown location or locations. The human remains were collected by an Iowa resident who acquired Native American human remains and artifacts by excavation, purchase, and trade from various locations in the U.S. In 2001, well after the collector's death, a box of human remains was discovered in his home and was transferred to the OSA-BP with no associated provenience information. A juvenile aged 5.0 to 6.5 years and three adults of indeterminate age and sex are represented by the remains (Burial Project 1452). No associated funerary objects are present. No known hazardous substances were used to treat the human remains.

At an unknown date, human remains representing a minimum of two individuals were removed from an unknown location or locations. The human remains were in the possession of a private collector in Fort Madison, IA, and were transferred to the OSA-BP after the collector's death in 1994 with no associated provenience information. Two adults of indeterminate age and sex are represented (Burial Project 785). No associated funerary objects are present. No known hazardous substances were used to treat the human remains.

At an unknown date, human remains representing a minimum of five individuals were removed from an unknown location or locations. The remains, which consist of 112 teeth, were in the possession of a private collector in Fort Madison, IA. After the collector's death in 1994, the remains were transferred to the OSA-BP with no associated provenience information. At least five adults are represented by the dental remains (Burial Project 785). No associated funerary objects are present. No known hazardous substances were used to treat the human remains.

In 1966, human remains representing a minimum of three individuals were removed from a mound at an unknown location. The human remains were excavated by a private collector and were transferred to the OSA-BP after the collector's death in 1994. Three adults are represented by the human remains, including one male 25 to 29 years old (Burial Project 785). No associated funerary objects are present. No known hazardous substances were used to treat the human remains.

At an unknown date, possibly in the 1960s, human remains representing a minimum of seven individuals were removed from an unknown location or locations. The human remains were excavated by a private collector and were transferred to the OSA-BP after the collector's death in 1994 with no associated provenience information. Four adults are represented by the human remains, including one young adult female. The three juveniles were newborn to 2.0 years, 2.5 to 3.5 years, and 3.0 to 6.5 years old (Burial Project 785). No associated funerary objects are present. No known hazardous substances were used to treat the human remains.

At an unknown date, human remains representing a minimum of 14 individuals were removed from an unknown location or locations. The human remains were in the possession of a private collector in Fort Madison, IA, and were transferred to the OSA-BP after the collector's death in 1994 with no associated provenience information. Six adults are represented by the remains, along with a neonate, an infant approximately one year old, a 3.0 to 4.0-year-old, a 5.0 to 6.5-year-old, a 6.0 to 8.0-year-old, a 9.0 to 11.0-year-old, and two adolescents (Burial Project 785). No associated funerary objects are present. No known hazardous substances were used to treat the human remains.

At an unknown date, human remains representing a minimum of five individuals were removed from an unknown location. The human remains were in the possession of a private collector in Fort Madison, IA, and were transferred to the OSA-BP after the collector's death in 1994 with no associated provenience information. Two adults, including one male, are represented by the adult remains. Three juveniles are also represented, including an infant, a 3.5 to 6.0-year-old, and a 6.5 to 9.0-year-old (Burial Project 785). No associated funerary objects are present. No known hazardous substances were used to treat the human remains.

At an unknown date, human remains representing a minimum of eight individuals were removed from an unknown location. The human remains were in the possession of a private collector in Fort Madison, IA, and were transferred to the Office of the State Archaeologist after the collector's death in 1994 with no associated provenience information. Four adults are represented by the adult remains, including at least one male. Four juveniles are also present, including two infants, a five to seven-year-old, and a 10 to 14-year-old (Burial Project 785). No associated funerary objects are present. No known hazardous substances were used to treat the human remains.

On November 16, 1970, human remains representing a minimum of two individuals were removed from a plowed field at an unknown location. The human remains were discovered by a private collector and were transferred to the OSA-BP after the collector's death in 1994 with no more specific provenience information. An adult female and an adult of unknown age and sex are represented by the remains (Burial Project 785). No associated funerary objects are present. No known hazardous substances were used to treat the human remains.

At an unknown date, human remains representing a minimum of four individuals were removed from an unknown location or locations. The human remains were in the possession of a private collector in Fort Madison, IA, and were transferred to the OSA-BP after the collector's death in 1994 with no associated provenience information. Three adults of indeterminate age and sex and a juvenile seven to nine years old are represented by the human remains (Burial Project 785). No associated funerary objects are present. No known hazardous substances were used to treat the human remains.

At an unknown date, human remains representing, at minimum, one individual were removed from an unknown location. Also at an unknown time, this human cranium, which had been prepared as an anatomical specimen, became part of the OSA-BP comparative osteological collection. In 2018, an exercise using the FORDISC discriminant function software for ancestry determination identified the human remains as likely Native American. The preparation of the human remains and the presence of modern dentistry (root canal with traces of amalgam filling) suggest the individual died sometime between 1833 and the mid-twentieth century (BP3283). No associated funerary objects are present. No known hazardous substances were used to treat the human remains.

At an unknown date, human remains representing, at minimum, one individual were removed from an unknown location. At some point in time, these human remains became part of the teaching collection at Sidney High School in Fremont County, Iowa. In June 2019, the human remains were transferred to the OSA-BP. A young or middle adult of unknown sex is represented. Craniofacial morphology suggests Native American ancestry (Burial Project 3445). No associated funerary objects are present. No known hazardous substances were used to treat the human remains.

At an unknown date, human remains representing, at minimum, four individuals were removed from an unknown site in an unknown location. In the 1950s, these human remains were purchased at auction by a private citizen in Clinton, Iowa. The human remains were contained in a Southwestern style pot, suggesting they may have originated from a Native American site in the Southwest, but this cannot be verified. The original provenience of the pot is also unknown. In September 2019, the human remains were transferred to the OSA-BP; the pot was not included in the transfer. One young adult, two middle-to-old adults and a juvenile are represented by the cranial and dental remains (Burial Project 3463). No associated funerary objects are present. No known hazardous substances were used to treat the human remains.

At an unknown date, human remains representing, at minimum, three individuals were removed from an unknown location. These human remains were collected by a private citizen who collected throughout Iowa, Nebraska, and Wyoming, and his collection was transferred to an avocational archaeologist upon his death. In August 2019, the remains were transferred to the OSA-BP. Two adults, one a young adult of unknown sex, are represented by postcranial elements and a juvenile is represented by cranial elements. The artifacts the human remains were stored with suggest their antiquity and Native American ancestry, but the association of the artifacts and human remains is unknown. The preservation and condition of the human remains are consistent with a burial context (Burial Project 3458). No associated funerary objects are present. No known hazardous substances were used to treat the human remains.

At an unknown date, human remains representing, at minimum, five individuals were removed from an unknown location. In June 2020, a private citizen sent the human remains to the OSA-BP reporting that they had been obtained from a relative. The original collector created a catalog of some human remains he had taken, but these individuals did not have original burial locations referenced. Represented are one juvenile around 11-13 years old, and four adults of unknown sex and age (BP3524). The 21 associated funerary objects include 16 pieces of faunal bones, four pieces of charcoal, and one piece of shell. No known hazardous substances were used to treat the human remains or associated funerary objects.

At an unknown date and time, human remains representing, at minimum, one individual were removed from an unknown location and were added to the University of Iowa's Biology Department Anatomical Teaching Collection. The human remains were transferred from the Biology department to the OSA-BP when the educational collection was being updated. The human remains have not had any postmortem modification typical of anatomical collections and have a dark brown staining that suggests a prior burial context. FORDISC analysis indicated Native American ancestry. One adult male is represented (Burial Project 3680, Individual 1). No associated funerary objects are present. No known hazardous substances were used to treat the human remains.

At an unknown date and time human remains representing at minimum one individual were removed from an unknown location. A physician at University of Iowa Hospitals identified the human remains in her recently deceased father's possessions and contacted the OSA for transfer. The individual is represented by a complete skull including the mandible and was from her father's anatomical collection when he was medical student in the 1940s. One adult male is represented (Burial Project 3742, Individual 1). Cranial metrics indicated Native American ancestry. No associated funerary objects are present. No known hazardous substances were used to treat the human remains.

At an unknown time, human remains representing at minimum one individual were removed from an unknown location. The individual was acquired by a private citizen through unknown means and was given to the grandmother of a University of Norther Iowa (UNI) student. The student brought the human remains to her professor of forensic anthropology, Dr. Tyler O'Brien, for documentation. Dental and cranial morphology indicated Native ancestry so the human remains were transferred to the OSA-BP. The individual is a young adult female between the ages of 20 and 30 with mixed African American and Native American ancestry (BP3667). Dirt present in foramina suggest a previous burial context. No associated funerary objects are present. No known hazardous substances were used to treat the human remains.

At an unknown time, human remains representing at minimum one individual were removed from an unknown location. The human remains were discovered in a retired University of Iowa professor's private collection and transferred to the OSA-BP in 2022. The professor collected widely from the U.S. and other countries; no indication of the individual's original provenience or geographical location accompanied the human remains. The human remains consist of a mandible with a full dental arcade; dental wear is typical of pre-contact Native Americans in North America. One adult male is represented (BP3736). No associated funerary objects are present. No known hazardous substances were used to treat the human remains.

At an unknown time, human remains representing at minimum six individuals were removed from and unknown location. The human remains were partially exposed along a service road bordering Evergreen Cemetery in Sabula, IA in Jackson County, and discovered by a local resident. Investigation by the IOSME revealed they were ancient, not of medicolegal significance, and likely represented an unauthorized reburial by an unknown person. No associated artifacts were included with the human remains and no evidence of the individuals' original burial location is evident. The remains were temporarily reposed at the Sabula Police Department and then transferred to the OSA-BP. At least two females, one male, one adult of unknown sex, a juvenile 12-16 years old and an infant or fetus are represented (BP 3801). The unauthorized reburial location was designated as Notable Location XX15032 in the Iowa Site File. No associated funerary objects are present. No known hazardous substances were used to treat the human remains.

At an unknown time, human remains representing at minimum one individual were removed from and unknown location. The human remains were part of a teaching collection at Iowa Wesleyan University, and were donated to the OSA-BP along with human remains representing several other non-Native individuals in June 2023. Documentation of the collection revealed that the condition and preservation of one individual's remains indicated they were originally in a burial environment and likely did not belong to other non-Native individuals in the collection. One adult of unknown age and sex is represented by fragmentary long bones (BP3802). The original provenience and geographical location of origin of the individuals is unknown. No associated funerary objects are present. No known hazardous substances were used to treat the human remains.

At an unknown time, human remains representing at minimum two individuals were removed from and unknown location. The human remains were transferred to the IOSME after being discovered in a decedent's home in Clay County, IA in 2023. The decedent's family said he used to live in Arizona before moving to Iowa, but there was no documentation of where the human remains were collected from. Craniofacial features and dental morphology are indicative of Native American ancestry. As the human remains were determined not of medicolegal significance they were transferred to the OSA-BP the same year. One young adult female is represented by a mostly complete cranium and an additional individual's teeth were introduced by the collector during attempted dental arcade reconstruction (BP3813). No associated funerary objects are present. No known hazardous substances were used to treat the human remains.

At an unknown time, human remains representing at minimum one individual were removed from an unknown location. The human remains were discovered in retired UI professor, Russ Ciochon's, private collection in November of 2022 and transferred to the OSA BP. The professor collected widely throughout the U.S. and other countries but was inconsistent about recording the provenience or original source of human skeletal remains. The mandible reported here has no associated documentation or labels but has staining and adhering sediment consistent with being taken from a burial environment. Advanced and uniform dental wear is typical of ancient Native American populations using ground stone tools to process food, but a narrower geographic region cannot be identified. One mandible with mostly complete dentition and advanced dental wear represents a middle to older adult male individual (BP3736). No associated funerary objects are present. No known hazardous substances were used to treat the human remains.

In 1964 and 1989, human remains representing at minimum four individuals were removed from unknown locations and were transferred to the University of Northern Iowa (UNI) at an unknown date. When discovered in UNI collections the human remains were transferred to the OSA BP in 2023. Three different UNI accession numbers associated with the human remains represent three different collection events by separate individuals, and none recorded the location of original interments. Three individuals were acquired in 1964 and one in 1989. One individual (UNI acc#: 00.4.13.520.4) was collected by Dr. D. A. Hoffman from an unknown location, and three individuals (UNI acc#:1989.43.0317(MNI=1) and 00.4.13.519.2 (MNI=2)) were collected by unknown individuals from unknown locations. Commingled human remains represent a juvenile 1-5 years old, a young adult of unknown sex, an adult of unknown age and sex, and a mid-older adult of unknown sex (OSA BP3777). No associated funerary objects are present. No known hazardous substances were used to treat the human remains.

At an unknown date, human remains representing, a minimum of four individuals were removed from an unknown location. The cranial and dental remains were part of the Gene W. Whittenburg Collection before they were given or sold to a private collector in Fort Madison, IA. There is indication that Whittenburg resided in Texas, but it is unknown whether the human remains were collected in that state and no other documentation accompanied the human remains. After the collector's death in 1994, the remains were transferred to the Office of the State Archaeologist Bioarchaeology Program. Two adults, including one middle-aged female, and two juveniles are represented by the remains (Burial Project 785). No associated funerary objects are present. No known hazardous substances were used to treat the human remains.

Consultation

Invitations to consult were sent to the Absentee-Shawnee Tribe of Indians of Oklahoma; Assiniboine and Sioux Tribes of the Fort Peck Indian Reservation, Montana; Bad River Band of the Lake Superior Tribe of Chippewa Indians of the Bad River Reservation, Wisconsin; Cheyenne River Sioux Tribe of the Cheyenne River Reservation, South Dakota; Citizen Potawatomi Nation, Oklahoma; Delaware Nation, Oklahoma; Eastern Shawnee Tribe of Oklahoma; Flandreau Santee Sioux Tribe of South Dakota; Forest County Potawatomi Community, Wisconsin; Hannahville Indian Community, Michigan; Ho-Chunk Nation of Wisconsin; Iowa Tribe of Kansas and Nebraska; Iowa Tribe of Oklahoma; Kaw Nation, Oklahoma; Keweenaw Bay Indian Community, Michigan; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lower Sioux Indian Community in the State of Minnesota; Miami Tribe of Oklahoma; Minnesota Chippewa Tribe, Minnesota (Six component reservations: Bois Forte Band (Nett Lake); Fond du Lac Band; Grand Portage Band; Leech Lake Band; Mille Lacs Band; White Earth Band); Oglala Sioux Tribe; Omaha Tribe of Nebraska; Otoe-Missouria Tribe of Indians, Oklahoma; Pawnee Nation of Oklahoma; Peoria Tribe of Indians of Oklahoma; Ponca Tribe of Indians of Oklahoma; Ponca Tribe of Nebraska; Prairie Band Potawatomi Nation; Prairie Island Indian Community in the State of Minnesota; Quapaw Nation; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Santee Sioux Nation, Nebraska; Shakopee Mdewakanton Sioux Community of Minnesota; Sisseton-Wahpeton Oyate of the Lake Traverse Reservation, South Dakota; Sokaogon Chippewa Community, Wisconsin; Spirit Lake Tribe, North Dakota; Standing Rock Sioux Tribe of North & South Dakota; The Osage Nation; Three Affiliated Tribes of the Fort Berthold Reservation, North Dakota; Upper Sioux Community, Minnesota; Winnebago Tribe of Nebraska; and the Yankton Sioux Tribe of South Dakota.

Cultural Affiliation

The following types of information about the cultural affiliation of the human remains and associated funerary objects in this notice are available: biological. The information, including the results of consultation, identified:

1. No earlier group connected to the human remains or associated funerary object.

2. No Indian Tribe or Native Hawaiian organization connected to the human remains or associated funerary objects.

Determinations

The OSA-BP has determined that:

• The human remains described in this notice represent the physical remains of 132 individuals of Native American ancestry.

• The 21 objects described in this notice are reasonably believed to have been placed intentionally with or near individual human remains at the time of death or later as part of the death rite or ceremony.

• No known lineal descendant who can trace ancestry to the human remains and associated funerary objects in this notice has been identified.

• No Indian Tribe or Native Hawaiian organization with cultural affiliation to the human remains and associated funerary objects in this notice has been clearly or reasonably identified.

Requests for Repatriation

Written requests for repatriation of the human remains and associated funerary objects in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains and associated funerary objects described in this notice may occur on or after August 19, 2024. If competing requests for repatriation are received, the OSA-BP must determine the most appropriate requestor prior to repatriation. Requests for joint repatriation of the human remains and associated funerary objects are considered a single request and not competing requests. The OSA-BP is responsible for sending a copy of this notice to any consulting lineal descendant, Indian Tribe, or Native Hawaiian organization.

Authority: Native American Graves Protection and Repatriation Act, 25 U.S.C. 3003, and the implementing regulations, 43 CFR 10.10.

Dated: July 10, 2024.
Melanie O'Brien,
Manager, National NAGPRA Program.

[FR Doc. 2024-15900 Filed 7-18-24; 8:45 am]

BILLING CODE 4312-52-P